DEPARTMENT OF DEFENSE

Department of the Army

[Docket ID USA-2013-0018]

Privacy Act of 1974; System of Records

AGENCY: Department of the Army, DoD.

ACTION: Notice to amend two Systems of Records.

SUMMARY: The Department of the Army is amending two systems of records notices in its existing inventory of record systems subject to the Privacy Act of 1974 (5 U.S.C. 552a), as amended.

DATES: This proposed action will be effective on July 29, 2013 unless comments are received which result in a contrary determination. Comments will be accepted on or before July 26, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905 or by calling (703) 428-6185.

SUPPLEMENTARY INFORMATION: The Department of the Army systems of records notices subject to the Privacy Act of 1974 (5 U.S.C. 552a), as amended, have been published in the Federal Register and are available from the address in FOR FURTHER INFORMATION CONTACT or at the Defense Privacy and Civil Liberties Web site http://dpclo.defense.gov/privacy/SORNs/component/army/index.html.

The Department of the Army proposes to amend two systems of records notices in its inventory of record systems subject to the Privacy Act of 1974 (5 U.S.C. 552a), as amended. The proposed amendment is not within the purview of subsection (r) of the Privacy Act of 1974 (5 U.S.C. 552a), as amended, which requires the submission of a new or altered system report.

Dated: June 21, 2013.
Aaron Siegel,
Alternate, OSD Federal Register Liaison Officer, Department of Defense.

AAFES 0403.11

System name:

Personnel Departure Clearance Records (August 9, 1996, 61 FR 41572).

Changes:

* * * * *

System location:

Delete entry and replace with “Headquarters, Army and Air Force Exchange Service, 3911 S. Walton Walker Boulevard, Dallas, TX 75236-1598; the civilian personnel offices located at the Exchange Regions and Area Exchanges at posts, bases, and satellites world-wide.”

Categories of individuals covered by the system:

Delete entry and replace with “All employees of the Army and Air Force Exchange Service (Exchange).”

* * * * *

Authority for maintenance of the system:

Delete entry and replace with “10 U.S.C. 3013, Secretary of the Army and 8013, Secretary of the Air Force; Army Regulation 215-3, Nonappropriated Funds Personnel Policies and Procedures; and Army Regulation 215-8/AFI 34/211(I), Army and Air Force Service Operations; and E.O. 9397 (SSN), as amended.”

* * * * *

Retention and disposal:

Delete entry and replace with “Records should be cut off at the close of the fiscal year of departure. Destroy, by shredding, one year after cut off.”

System manager(s) and address:

Delete entry and replace with “Director/Chief Executive Officer, Army and Air Force Exchange Service, 3911 S. Walton Walker Boulevard, Dallas, TX 75236-1598.”

Notification procedure:

Delete entry and replace with “Individuals seeking to determine whether information about themselves is contained in this system should address written inquiries to the Director/Chief Executive Officer, Army and Air Force Exchange Service, 3911 S. Walton Walker Boulevard, Dallas, TX 75236-1598.

Individual should provide full name, Social Security Number, current address and telephone number, and date and place of separation.”

Record access procedures:

Delete entry and replace with “Individuals seeking access to information about themselves contained in this system should address written inquiries to the Director/Chief Executive Officer, Army and Air Force Exchange Service, 3911 S. Walton Walker Boulevard, Dallas, TX 75236-1598.

Individual should provide full name, Social Security Number, current address and telephone number, and date and place of separation.”

* * * * *

AAFES 0405.11

System name:

Individual Health Records (April 4, 2003, 68 FR 16484).

Changes:

* * * * *

System location:

Delete entry and replace with “Headquarters, Army and Air Force Exchange Service, 3911 S. Walton Walker Boulevard, Dallas, TX 75236-1598 and Exchange Regions and Area Exchanges at posts, bases, and satellites world-wide where medical facilities are available for employee use.”

Categories of individuals covered by the system:

Delete entry and replace with “Employees of the Army and Air Force Exchange Service (Exchange).”

* * * * *

Authority for maintenance of the system:

Delete entry and replace with “10 U.S.C. 3013, Secretary of the Army; 10 U.S.C. 8013, Department of the Air Force; Army Regulation 215-1, The Administration of Morale, Welfare, and Recreation Activities and Non-appropriated Fund Instrumentalities; and Army Regulation 215-8/AFI 34-211(I), Army and Air Force Service Operations; and E.O. 9397 (SSN), as amended.”

* * * * *

Retention and disposal:

Delete entry and replace with “Records should be cut off at close of fiscal year in which employee is separated or transferred. Destroy, by shredding, six years after cut off.”

System manager(s) and address:

Delete entry and replace with “Director/Chief Executive Officer, Army and Air Force Exchange Service, 3911 S. Walton Walker Boulevard, Dallas, TX 75236-1598.”

Notification procedure:

Delete entry and replace with “Individuals seeking to determine whether information about themselves is contained in this system should address written inquiries to the Director/Chief Executive Officer, Army and Air Force Exchange Service, ATTN: Records Management Office, 3911 S. Walton Walker Boulevard, Dallas, TX 75236-1598.

Individual must furnish full name, details concerning injury or illness and date and location of such, and signature.”

Record access procedures:

Delete entry and replace with “Individuals seeking access to information about themselves contained in this system should address written inquiries to the Director/Chief Executive Officer, Army and Air Force Exchange Service, ATTN: Director Records Management Office, 3911 S. Walton Walker Boulevard, Dallas, TX 75236-1598.

Individual must furnish full name, details concerning injury or illness and date and location of such, and signature.”

* * * * *

[FR Doc. 2013-15237 Filed 6-25-13; 8:45 am]

BILLING CODE 5001-06-P